DEPARTMENT OF TRANSPORTATION

Office of the Secretary

14 CFR Part 234

[Docket No. DOT-OST-2010-0039]

RIN No. 2105-AE00

Enhancing Airline Passenger Protections: Response to Requests To Extend Compliance Date

AGENCY: Office of the Secretary (OST), Department of Transportation (DOT).

ACTION: Notice of proposed rulemaking.

SUMMARY: The Department of Transportation is proposing to extend by 45 days, or until June 14, 2010, the compliance date of the provision in its final rule entitled “Enhancing Airline Passenger Protections,” published December 30, 2009, and effective April 29, 2010, that requires airlines to publish flight delay information on their Web sites. This proposal is in response to the petition of the Air Transport Association of America (ATA), the Regional Airline Association (RAA) and the Air Carrier Association of America (ACAA) for an additional 90 days time for airlines to comply with the requirement to display flight delay data on Web sites in view of the extensive changes to carriers' reporting systems that are necessitated by the rule and their contention that completion of these tasks is not possible by April 29, 2010, the current effective date of the requirement. The Department acknowledges that additional time to comply with the posting of flight delay information on the carriers' Web sites may be warranted to ensure the posting of complete and accurate information but is not persuaded that the full 90 days requested by the carrier associations is needed. Therefore, this NPRM proposes to extend the compliance date for the provision in question for an additional 45 days, from April 29, 2010, to June 14, 2010.

DATES: Comments on amending the final rule published December 30, 2009, at 74 FR 68983, effective April 29, 2010, should be filed by March 25, 2010.

ADDRESSES: You may file comments identified by the docket number DOT-OST-2010-0039 by any of the following methods:

• Federal eRulemaking Portal: Go to http://www.regulations.gov and follow the online instructions for submitting comments.

• Mail: Docket Management Facility, U.S. Department of Transportation, 1200 New Jersey Ave., SE., Room W12-140, Washington, DC 20590-0001.

• Hand Delivery or Courier: West Building Ground Floor, Room W12-140, 1200 New Jersey Ave., SE., between 9 a.m. and 5 p.m. ET, Monday through Friday, except Federal Holidays.

• Fax: (202) 493-2251.

Instructions: You must include the agency name and docket number DOT-OST-2010-0039 or the Regulatory Identification Number (RIN) for the rulemaking at the beginning of your comment. All comments received will be posted without change to http://www.regulations.gov, including any personal information provided.

Privacy Act: Anyone is able to search the electronic form of all comments received in any of our dockets by the name of the individual submitting the comment (or signing the comment if submitted on behalf of an association, a business, a labor union, etc.). You may review DOT's complete Privacy Act statement in the Federal Register published on April 11, 2000 (65 FR 19477-78), or you may visit http://DocketsInfo.dot.gov.

Docket: For access to the docket to read background documents or comments received, go to http://www.regulations.gov or to the street address listed above. Follow the online instructions for accessing the docket.

FOR FURTHER INFORMATION CONTACT: Blane A. Workie, Office of the Assistant General Counsel for Aviation Enforcement and Proceedings, U.S. Department of Transportation, 1200 New Jersey Ave., SE., Washington, DC 20590, 202-366-9342 (phone), 202-366-7152 (fax), blane.workie@dot.gov (e-mail).

SUPPLEMENTARY INFORMATION: On December 30, 2009, the Department of Transportation published a final rule in the Federal Register (74 FR 68983), titled the “Enhancing Airline Passenger Protections” final rule that, among other things, requires certificated air carriers that account for at least 1 percent of domestic scheduled passenger revenues (reporting carriers) to provide certain flight delay data on their websites. Under the rule, a reporting carrier must display on its Web site flight delay information for each flight it operates and for each flight its U.S. code-share partners operate for which schedule information is available. More specifically, the rule requires that reporting carriers provide on their websites the following on-time performance information: (1) Percentage of arrivals that were on time—i.e., within 15 minutes of scheduled arrival time; (2) the percentage of arrivals that were more than 30 minutes late (including special highlighting if the flight was late more than 50 percent of the time); and (3) the percentage of flight cancellations if 5 percent or more of the flight's operations were canceled in the month covered. As published, the effective date of the rule is April 29, 2010.

The Air Transport Association of America (ATA), the Regional Airline Association (RAA) and the Air Carrier Association of America (ACAA) have requested that the Department of Transportation extend the compliance time for publishing flight delay information on airlines' websites by 90 days. The carrier associations state that the compliance date of April 29, 2010, is unworkable because of the extensive changes to carrier reporting systems and internet displays needed to comply with the rule. ATA asserts that, on average, each carrier will need to expend 1550 hours to comply with the new disclosure requirements. ATA explains that this work involves a number of company disciplines and that each area of work must be completed in succession. For example, according to ATA, the work to ensure compliance with the flight time disclosure requirements in the rule must be completed in a particular order: Each carrier must first design changes based on its current data capabilities, which on average will take approximately 415 hours; once the design is completed, programming changes, which on average will take approximately 560 hours, will need to be done; the testing period once programming is completed will then take on average approximately 445 hours; and finally the deployment process, once testing is completed, will take on average approximately 130 hours. ATA points out that, during the past month, while some work has began, carriers have spent the majority of the time determining the new regulatory requirements including seeking clarification on aspects of the rule and identifying the system changes that are needed in order to begin the first phase of system design. ATA also calls attention to the fact that delays at one carrier will impact the compliance schedule of all of its domestic code-share partners because the rule requires reporting carriers to post flight delay information not only for each flight it operates but also for each flight its U.S. code-share partners operate for which schedule information is available. Some of the code-share partners of the reporting carriers, it is noted, do not report on-time performance data to the Department. This will likely necessitate the reporting carriers collecting the on-time performance data for these carriers through third party entities. In addition, ATA notes that a number of U.S. carriers are discussing the possibility of creating and implementing an International Air Transport Association (IATA) standard for displaying code-share information to be shared among carriers, but that such standardization is likely to require a minimum 60-day approval process once the data standards are defined. For these reasons, ATA asserts that carriers need additional time to fulfill the Department's goal of providing accurate flight delay information for the public. Interested parties can read the carrier associations' requests to extend the compliance date in their entirety at DOT-OST-2010-0039.

The Department tentatively agrees that some extension of time in the compliance date for publishing flight delay data on airlines' Web sites may be warranted, but does not believe that a 90-day extension is justified. Instead, the Department is proposing to revise 14 CFR 234.11 to extend the compliance date of sections 234.11(b) and (c) by an additional 45 days until June 14, 2010. We believe this revised compliance date will provide the airlines adequate time to comply with the requirement to provide certain flight delay data on their Web sites. We emphasize that this proposed extension of time is limited to that portion of our “Enhancing Airline Passenger Protections” rule described above dealing with publication on carrier websites of flight delay data. It does not affect any other provision in the “Enhancing Airline Passenger Protections” rule, including the provision requiring U.S. carriers to allow passengers on domestic flights to deplane after three hours on the tarmac subject to exceptions for safety, security or ATC considerations, and the compliance date for those provisions remains April 29, 2009. In proposing the June 14, 2010, compliance date for the requirements pertaining to publishing delay data on carriers' websites, the Department is balancing the benefit of having accurate and complete flight delay data available to consumers with the capability of airlines to comply with the additional requirements being imposed upon them in a reasonable timeframe. We are specifically inviting comment on the issue of the proposed change in the compliance date. Is a 45-day extension too long or too short? We are not convinced at this juncture that a 90-day extension is necessary and invite carriers to provide evidence to the contrary in their comments on this proposal.

The Department is providing a very limited comment period on this proposal because the issue on which comment is sought is limited to a change in the compliance date of only a small portion of the “Enhancing Airline Passenger Protections” final rule. Additionally, the final rule has an effective date of April 29, 2010, less than two months from today. We believe that, under these circumstances, fifteen days will provide the public with meaningful participation in the regulatory process and enable the Department to review the comments submitted and issue a final rule on this matter sufficiently before April 29, 2010, to permit the air carriers to efficiently complete the tasks necessitated by the rule.

Regulatory Analyses and Notices

A. Executive Order 12866 (Regulatory Planning and Review) and DOT Regulatory Policies and Procedures

This rulemaking action is not a significant regulatory action under Executive Order 12866 and the Department of Transportation's Regulatory Policies and Procedures. Accordingly, this rule has not been reviewed by the Office of Management and Budget (OMB).

B. Regulatory Flexibility Act

Pursuant to section 605 of the Regulatory Flexibility Act (RFA), 5 U.S.C. 605(b), as amended by the Small Business Regulatory Enforcement and Fairness Act of 1996 (SBREFA), DOT certifies that this rulemaking will not have a significant impact on a substantial number of small entities. The NPRM would impose no duties or obligations on small entities.

C. Executive Order 13132 (Federalism)

This action will not have a substantial direct effect on the States, on the relationship between the national Government and the States, or on the distribution of power and responsibilities among the various levels of government, and therefore will not have federalism implications.

D. Executive Order 13084

This notice has been analyzed in accordance with the principles and criteria contained in Executive Order 13084 (“Consultation and Coordination with Indian Tribal Governments”). Because the provision on which we are seeking comment would not significantly or uniquely affect the communities of the Indian tribal governments or impose substantial direct compliance costs on them, the funding and consultation requirements of Executive Order 13084 do not apply.

E. Paperwork Reduction Act

The Paperwork Reduction Act of 1995 (PRA) (44 U.S.C. 3501 et seq.) requires that DOT consider the impact of paperwork and other information collection burdens imposed on the public and, under the provisions of PRA section 3507(d), obtain approval from the Office of Management and Budget (OMB) for each collection of information it conducts, sponsors, or requires through regulations. DOT has determined that there are no new information collection requirements associated with this NPRM. The NPRM merely proposes to provide an additional 45 days to comply with a regulatory provision whose paperwork impact has already been analyzed by the Department.

F. Unfunded Mandates Reform Act

The Department has determined that the requirements of Title II of the Unfunded Mandates Reform Act of 1995 do not apply to this rulemaking.

Issued this 5th day of March 2009, in Washington, DC.
Ray LaHood,
Secretary of Transportation.

List of Subjects in 14 CFR Part 234

Air carriers, Consumer protection, Reporting and recordkeeping requirements.

For the reasons set forth in the preamble, the Department proposes to amend the final rule published December 30, 2009, at 74 FR 68983, effective April 29, 2010, amending Title 14, Chapter II, Subchapter A, part 234, as follows:

PART 234—AIRLINE SERVICE QUALITY PERFORMANCE REPORTS

1. The authority citation for Part 234 continues to read as follows:

Authority: 49 U.S.C. 329 and chapters 401 and 417.

2. In the final rule published December 30, 2009, at 74 FR 68983, effective April 29, 2010, § 234.11 is amended by adding paragraph (d) to read as follows:

§ 234.11 Disclosure to consumers.

* * * * *

(d) A reporting carrier must meet the requirements of paragraphs (b) and (c) of this section by June 14, 2010.

[FR Doc. 2010-5244 Filed 3-9-10; 8:45 am]

BILLING CODE P